DEPARTMENT OF COMMERCE

National Oceanic and Atmospheric Administration

[RTID 0648-XA989]

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Archipelagic Plan Team (APT) and the Data Collection Subpanel (DCSP) of the Fishery Data Collection and Research Committee—Technical Committee (FDCRC-TC) by web conference to discuss fishery management issues and develop recommendations for future management of fisheries in the Western Pacific Region.

DATES: The APT will be held on April 20-22, 2021. The DCSP will be held on April 28-29, 2021. For specific times and agendas, see SUPPLEMENTARY INFORMATION.

ADDRESSES: Audio and visual portions for Archipelagic Plan Team meeting can be accessed at: https://wprfmc.webex.com/wprfmc/onstage/g.php?MTID=efc8f950c25af1314b2155355fb3dfd8b. The FDCRC-TC DCSP meeting can be accessed at https://wprfmc.webex.com/wprfmc/onstage/g.php?MTID=e7e2d2060c7fcebd7482b2885e98e0ffb. Web conference access information and instructions for providing public comments will be posted on the Council website at www.wpcouncil.org. For assistance with the web conference connection, contact the Council office at (808) 552-8220.

FOR FURTHER INFORMATION CONTACT: Kitty M. Simonds, Executive Director, Western Pacific Fishery Management Council; phone: (808) 522-8220 (voice) or (808) 522-8226 (fax).

SUPPLEMENTARY INFORMATION: The APT meeting will be held on April 20-22, 2021, from 1 p.m. to 5 p.m. Hawaii Standard Time (HST) (noon to 4 p.m. Samoa Standard Time (SST); 9 a.m. to 1 p.m. on April 21-23, 2021, Chamorro Standard Time (ChST)). The FDCRC-TC DCSP meeting will be held on April 28-29, 2021, from 1 p.m. to 5 p.m. HST (noon to 4 p.m. SST; 9 a.m. to 1 p.m. on April 29-30, 2020 ChST). Opportunities to present oral public comment will be provided throughout the agendas. The order of the agenda may change, and will be announced in advance at the meetings. The meetings may run past the scheduled times noted above to complete scheduled business.

Agenda for the Archipelagic Plan Team Meeting

Tuesday, April 20, 2021, 1 p.m. to 5 p.m. HST (Noon-4 p.m. SST; Wednesday, April 21, 2021, 9 a.m.-1 p.m. ChST)

1. Welcome and introductions

2. Approval of draft agenda

3. Report on previous Plan Team recommendations and Council actions

4. Plan Team 101: Plan Team Direction

5. 2020 Annual Stock Assessment and Fishery Evaluation (SAFE) Report

A. Fishery Performance

1. Archipelagic fisheries modules

a. American Samoa

1. Bottomfish fishery

2. Ecosystem component fisheries

3. Fisherman's observations

b. Guam

1. Bottomfish fishery

2. Ecosystem component fisheries

3. Fisherman's observations

c. Commonwealth of the Northern Mariana Islands (CNMI)

1. Bottomfish fishery

2. Ecosystem component fisheries

3. Fisherman's observations

d. Hawaii

1. Bottomfish fishery

2. Crustacean fishery

3. Precious coral fishery

4. Ecosystem component fisheries

5. Non-commercial fisheries

6. Fisherman's observations

2. Analytical considerations in generating the 2020 fishery dependent estimates

3. Discussions

4. Public Comment

Wednesday, April 21, 2021, 1 p.m. to 5 p.m. HST (Noon-4 p.m. SST; Thursday, April 22, 2021, 9 a.m.-1 p.m. ChST)

B. Ecosystem considerations

1. Protected species section

2. Climate, ecosystems and biological section

a. Environmental & climate variables

b. Life history and length-derived variables

c. Biomass estimates for Coral Reef Ecosystem Components

3. Habitat section

4. Socioeconomics section

5. Marine Planning section

6. Discussions

7. Public comment

C. Administrative reports

1. Number of federal permits and catch reports

2. Regulatory actions in 2020

3. Discussions

4. Public comment

Thursday, April 22, 2021, 1 p.m. to 5 p.m. HST (Noon-4 p.m. SST; Friday, April 23, 2021, 9 a.m.-1 p.m. ChST)

6. Action items

A. Changes to the Territorial Bottomfish Management Unit Species (BMUS)

B. Feasibility of a Marianas archipelago-wide assessment for BMUS

C. Management of the non-commercial and commercial uku fishery

D. Main Hawaiian island deep 7 Annual Catch Limit specification

7. Integration of the `CatchIt LogIt' app information into fisheries assessments and monitoring

8. Hawaii fisheries management issues

9. Standardized Bycatch Reporting Methodology

10. Discussions

11. Public comment

13. Fishery Ecosystem Plan Team recommendations

14. Other business

Agenda for the Fishery Data Collection and Research Committee—Technical Committee: Data Collection Subpanel

Wednesday, April 28, 2021, 1 p.m. to 5 p.m. HST (Noon-4 p.m. SST; Thursday, April 29, 2021, 9 a.m.-1 p.m. ChST)

1. Welcome and introductions

2. Approval of draft agenda

3. Report on previous FDCRC-TC recommendations and Council actions

4. Overview of the strategic planning session

5. Report on the previous strategic plan

A. Accomplishments and failures

B. Issues and challenges

6. Report on the individual territory strategic plan consultations

A. American Samoa

B. Guam

C. CNMI

D. Hawaii

1. Commercial fishery

2. Non-commercial fishery

7. Implementation roles and responsibilities

8. Timeline and prioritization

9. Performance monitoring and reporting

10. Discussions

11. Public comment

Thursday, April 29, 2021, 1 p.m.-5 p.m. HST (Noon-4 p.m. SST; Friday, April 30, 2021, 9 a.m.-1 p.m. ChST)

12. Report on data collection improvement initiatives

A. CatchIt LogIt implementation

B. Mandatory license and reporting implementation

C. Hawaii commercial fisheries reporting

D. Status of Hawaii Marine Recreational Fishing Survey certification

13. FDCRC-TC work items

A. Integration of the Data Collection Systems

B. Improving Bycatch Monitoring

C. Enhanced Spatial Accounting of Catch

14. Discussions

15. Other business

16. Public comment

17. FDCRC-TC-DCSP recommendations

Special Accommodations

These meetings are accessible to people with disabilities. Please direct requests for sign language interpretation or other auxiliary aids to Kitty M. Simonds (see FOR FURTHER INFORMATION CONTACT above) at least 5 days prior to the meeting date.

Authority: 16 U.S.C. 1801 et seq.

Dated: March 30, 2021.
Tracey L. Thompson,
Acting Deputy Director, Office of Sustainable Fisheries, National Marine Fisheries Service.

[FR Doc. 2021-06837 Filed 4-1-21; 8:45 am]

BILLING CODE 3510-22-P